DEPARTMENT OF LABOR

Employment and Training Administration

[TA-W-53,291, TA-W-53,291A, TA-W-53,291B, and TA-W-53,291C]

Cone Mills Corporation, Carlisle Plant Division, Carlisle, South Carolina; Cone Mills Corporation, Cone Rutherford County, LLC Division, Cliffside, North Carolina; Cone Mills Corporation, Cone White Oak, LLC Division, and Corporate Headquarters, Greensboro, North Carolina; Cone Mills Corporation, Salisbury Plant, Salisbury, North Carolina; Amended Certification Regarding Eligibility To Apply for Worker Adjustment Assistance and Alternative Trade Adjustment Assistance

In accordance with Section 223 of the Trade Act of 1974 (19 U.S.C. 2273), and under Section 246 of the Trade Act of 1974, as amended, the Department of Labor issued a Certification of Eligibility To Apply for Worker Adjustment Assistance and Alternative Trade Adjustment Assistance on December 3, 2003, applicable to workers of Cone Mills Corporation, Carlisle Plant Division located in Carlisle, South Carolina, Cone Rutherford County, LLC Division located in Cliffside, North Carolina, and Cone White Oak, LLC Division located in Greensboro, North Carolina. The notice will soon be published in the Federal Register.

At the request of a company official, the Department reviewed the certification for workers of the subject firm. The workers of Cone Mills Corporation produce textiles. New information provided by a company official show that worker separations have occurred at the subject firm's corporate office in Greensboro, North Carolina, and at the company's warehouse in Salisbury, North Carolina.

Workers at the corporate office and warehouse provide services in support of the production of textiles at the firm's Cone White Oak, LLC Division in Greensboro, North Carolina, as well as other Cone Mill Corporation plants, whose workers have been certified eligible to apply for adjustment assistance.

Furthermore, the conclusion section of the certification omitted that workers are eligible to apply for alternative trade adjustment assistance (ATAA) under Section 246 of the Trade Act of 1974, as amended.

It is the Department's intent to include all workers of Cone Mills Corporation adversely affected by increased imports of textiles. Therefore, the Department is amending the certification to include workers of the Corporate Office in Greensboro, North Carolina, add workers of Cone Mills Corporation, Salisbury, North Carolina, and include for all locations worker eligibility to apply for ATAA.

The amended notice applicable to TA-W-53,291 is hereby issued as follows:

“All workers of Cone Mills Corporation, of Cone Mills Corporation, Carlisle Plant Division, Carlisle, South Carolina (TA-W-53,291), Cone Mills Corporation, Cone Rutherford County, LLC Division, Cliffside, North Carolina (TA-W-53,291A), Cone Mills Corporation, Cone White Oak, LLC Division and Corporate Headquarters, Greensboro, North Carolina (TA-W-53,291B), and Cone Mills Corporation, Salisbury, North Carolina (TA-W-53,291C), who became totally or partially separated from employment on or after October 14, 2002, through December 3, 2005, are eligible to apply for adjustment assistance under Section 223 of the Trade Act of 1974, and are also eligible to apply for alternative trade adjustment assistance under Section 246 of the Trade Act of 1974, as amended.”

Signed at Washington, DC, this 23rd day of December 2003.
Linda G. Poole,
Certifying Officer, Division of Trade Adjustment Assistance.

[FR Doc. 04-301 Filed 1-6-04; 8:45 am]

BILLING CODE 4510-30-P